DEPARTMENT OF THE INTERIOR

Bureau of Reclamation

Fish and Wildlife Service

Habitat Management, Preservation, and Restoration Plan for the Suisun Marsh, Solano County, CA

AGENCY: Bureau of Reclamation and Fish and Wildlife Service, Interior.

ACTION: Notice of intent to prepare a programmatic environmental impact statement/environmental impact report (PEIS/EIR) and hold public scoping meetings.

SUMMARY: Pursuant to Section 102(2)(C) of the National Environmental Policy Act of 1969 (NEPA) and Public Resources Code, Sections 21000-21178.1 of the California Environmental Quality Act (CEQA), the U.S. Fish and Wildlife Service (FWS) and Bureau of Reclamation (Reclamation), the co-lead Federal agencies, and the California Department of Fish and Game (DFG), the lead State agency, propose to prepare a joint PEIS/EIR. The PEIS/EIR will develop and analyze a regional plan that would outline the actions necessary in Suisun Marsh to preserve and enhance managed seasonal wetlands, implement a comprehensive levee protection/improvement program, and protect ecosystem and drinking water quality, while restoring habitat for tidal marsh-dependent sensitive species, consistent with the California Bay-Delta Program's strategic goals and objectives.

DATES: Three public scoping meetings will be held:

• Tuesday, November 25, 2003, 12-3 p.m. in Fairfield, CA.

• Thursday, December 4, 2003, 6-8:30 p.m. in Benicia, CA.

• Wednesday, December 10, 2003, 6-8:30 p.m. in Fairfield, CA.

In addition to the scoping meetings, a Suisun Marsh Science Workshop sponsored by the San Francisco Bay-Delta Science Consortium is being planned for the latter part of January 2004. Details on this workshop will be publicized when the schedule and location have been determined.

Written comments on the scope of the proposed Suisun Marsh Plan or issues to be addressed in the PEIS/EIR must be received on or before February 9, 2004.

Persons needing reasonable accommodations in order to attend and participate in the meetings must submit requests no later than 1 week before the meeting (see SUPPLEMENTARY INFORMATION section for further details).

ADDRESSES: Scoping meetings will be held at:

• Fairfield, CA, (November 25) Solano County Mosquito Abatement District, 2950 Industrial Court.

• Benicia, CA, Benicia Public Library, Dona Benicia Meeting Room, 150 East L Street.

• Fairfield, CA, (December 10) Solano County Office of Education, Pena Adobe Room, 5100 Business Center Drive.

Written comments on the scope of the proposed Suisun Marsh Plan or issues to be addressed in the PEIS/EIR should be sent to the California Department of Fish and Game, Attention: Ms. Laurie Briden, 4001 N. Wilson Way, Stockton, California 95205. Written comments may also be sent by facsimile to (209) 946-6355 or e-mailed to lbriden@delta.dfg.ca.gov.

FOR FURTHER INFORMATION CONTACT: Laurie Briden with DFG at (209) 948-7347 or via e-mail at lbriden@delta.dfg.ca.gov, or Dan Buford with FWS at (916) 414-6600 or via e-mail at Daniel_Buford@fws.gov, or Lee Laurence with Reclamation at (916) 978-5193 or via e-mail at llaurence@mp.usbr.gov.

SUPPLEMENTARY INFORMATION: The Suisun Marsh is the largest contiguous brackish water wetland in California. It is an important wetland on the Pacific Flyway, providing food and habitat for migratory birds. This intricate mosaic of tidal wetlands, diked seasonal wetlands, sloughs, and upland grasslands comprises over 10 percent of the remaining wetlands in California and is an important part of the San Francisco Bay-Delta Estuary. The Suisun Marsh provides habitats for many species of plants, fish, and wildlife, in addition to wintering and nesting habitat for waterfowl on the Pacific Flyway. The Suisun Marsh is located within the Bay-Delta estuary. As a result, its water quality affects, and is affected by, California's two largest water supply systems, the Federal Central Valley Project and the State Water Project, and other upstream diversions. These factors have made the Suisun Marsh one of the most highly regulated wildlife habitat areas in California and, as such, the Marsh occupies a prominent place in the Bay-Delta Program, a joint State-Federal planning group formed to develop and implement a long-term comprehensive plan that will restore ecological health and improve water management for beneficial uses of the Bay-Delta.

California Bay-Delta Authority and member agency managers with primary responsibility for actions in Suisun Marsh formed a Charter Group to develop an implementation plan for Suisun Marsh that would protect and enhance Pacific Flyway and existing wildlife values, endangered species, and water quality. Because the Suisun Marsh includes private lands, the Suisun Resource Conservation District (SRCD) also serves on the Charter Group to represent the interests of private landowners. Other Charter Group members include DFG, FWS, Reclamation, and the California Department of Water Resources (DWR). Other Bay-Delta Program participating agencies include the National Oceanic and Atmospheric Administration (NOAA) Fisheries and the U.S. Army Corps of Engineers.

The proposed Suisun Marsh Plan would be developed to balance the goals and objectives of the Bay-Delta Program, Suisun Marsh Preservation Agreement, and other management and restoration programs within the Suisun Marsh in a manner that is responsive to the concerns of all stakeholders and is based upon voluntary participation by private landowners. The proposed Suisun Marsh Plan would provide for simultaneous protection and enhancement of: (1) Pacific Flyway and existing wildlife values in managed wetlands, (2) endangered species recovery, and (3) water quality.

The PEIS/EIR would address the design, implementation, and maintenance of specific actions needed to achieve the Suisun Marsh Plan. The Suisun Marsh is that portion of San Francisco Bay downstream from the Sacramento-San Joaquin River Delta and upstream from the Central San Francisco Bay. The Suisun Marsh falls into the Suisun Marshlands and Bay Ecological Management Unit of the Bay-Delta Program's Suisun Marsh and North San Francisco Bay Ecological Management Zone. The proposed Suisun Marsh Plan would serve as the Bay-Delta Program's regional implementation plan for the Suisun Marsh portion of the Suisun Marsh Ecological Management Zone. The Plan would address Bay-Delta Program implementation in the Suisun Marsh over the next 30 or more years with an emphasis on Bay-Delta Program Stage 1, formally defined as the first 7 years of Bay-Delta Program implementation.

The PEIS/EIR is expected to analyze the beneficial and adverse effects of implementing a Suisun Marsh Plan on environmental resources including: water quality, fisheries, wildlife, vegetation, special-status species, land use, land use development patterns, population, housing, economics, and public services (fire protection, vector control), cultural resources, air quality, noise, recreation, energy, visual impacts, and socioeconomic condition. Analysis in the PEIS/EIR would also determine if environmental justice issues are associated with the Suisun Marsh Plan. An initial review for the presence of Indian Trust Assets in Solano, Contra Costa, and San Joaquin Counties indicates that there are no trust lands or other assets in those counties held for federally recognized tribes. This review also indicates that there are no Public Domain Allotments (lands held in trust for individual Indians) near the vicinity of the Suisun Marsh Plan. The environmental effects of certain specific projects would also be analyzed at a site-specific level of detail in the PEIS/EIR, and would constitute the final CEQA or NEPA document for those projects. Specific projects proposed to be analyzed at the site-specific level include an amendment to the Suisun Marsh Preservation Agreement. The Plan would also present strategies to resolve permitting issues related to past and ongoing maintenance and management activities, and identify strategies to resolve other interagency conflicts related to the management of the Suisun Marsh. Specific alternatives to the proposed Suisun Marsh Plan have not been identified at this time and will be developed following scoping.

DFG is publishing a Notice of Preparation in accordance with CEQA.

Persons needing reasonable accommodations in order to attend and participate in the public meetings should contact Dan Buford at (916) 414-6600 or TDD (800) 735-2922 as soon as possible. Information regarding this proposed action is available in alternative formats upon request.

It is Reclamation's practice to make comments in response to a Notice of Intent, including names and home addresses of respondents, available for public review. Individual respondents may request that we withhold their home address from public disclosure, which we will honor to the extent allowable by law. There may also be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: October 8, 2003.
Frank Michny,
Regional Environmental Manager, Mid-Pacific Region, Bureau of Reclamation.
Dated: October 7, 2003.
Steve Thompson,
Manager, California/Nevada Operations Office, Fish and Wildlife Service.

[FR Doc. 03-27922 Filed 11-7-03; 8:45 am]

BILLING CODE 4310-MN-P